NATIONAL SCIENCE FOUNDATION

Notice of Permit Modification Received Under the Antarctic Conservation Act of 1978

AGENCY: National Science Foundation.

ACTION: Notice of permit modification request.

SUMMARY: The National Science Foundation (NSF) is required to publish a notice of requests to modify permits issued to conduct activities regulated under the Antarctic Conservation Act of 1978. This is the required notice of a requested permit modification.

DATES: Interested parties are invited to submit written data, comments, or views with respect to this permit application by December 27, 2021. Permit applications may be inspected by interested parties at the Permit Office, address below.

ADDRESSES: Comments should be addressed to Permit Office, Office of Polar Programs, National Science Foundation, 2415 Eisenhower Avenue, Alexandria, Virginia 22314.

FOR FURTHER INFORMATION CONTACT: Polly Penhale, ACA Permit Officer, Office of Polar Programs, National Science Foundation, 2415 Eisenhower Avenue, Alexandria, VA 22314; 703-292-8030; or ACApermits@nsf.gov.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas as requiring special protection. The regulations establish such a permit system to designate Antarctic Specially Protected Areas.

Description of Permit Modification Requested: The Foundation issued a permit (ACA 2018-015) to Polar Latitudes Inc. on November 2, 2017. The issued permit allows the applicant to conduct waste management activities associated with coastal camping and operating remotely piloted aircraft systems (RPAS) In the Antarctic Peninsula region.

On October 5, 2021, NSF issued a permit modification authorizing waste management activities associated with planned operations for the 2021-2022 field season. This modification included slight changes in operation. For the 2021-2022 season, Polar Latitudes plans to operate the MS SEAVENTURE, which will carry 149 passengers and 15-20 expedition staff. Polar Latitudes requested that the number of individuals permitted for coastal camping activities be increased from 30 participants to 40 participants and four expedition guides, with increased equipment brought onshore to support a larger group. Polar Latitudes also updated their RPAS policies, which are still in accordance with standards put forth by IATTO and the ATCM.

Now the applicant proposes a modification to this permit to authorize waste management activities associated with newly proposed onshore activities to be conducted in the the 2021-2022 Antarctic season. The applicant proposes conducting multiple one-day reconnaissance expeditions led by a two-person reconnaissance team at ATS-approved visitor sites in Antarctica. The purpose of these expeditions is to identify, map and photograph suitable routes to be used in future commercial land-based expeditions. Materials to be brought ashore including food and supplies to support activities as well as emergency supplies, including cooking fuel for emergency use only. All solid, hazardous, and biological wastes will be removed from the continent and returned to the operator's vessel, MS SEAVENTURE, following all expeditions.

Location: Antarctic peninsula region.

Dates: January 1, 2022-March 30, 2022.

Erika N. Davis,
Program Specialist, Office of Polar Programs.

[FR Doc. 2021-25730 Filed 11-24-21; 8:45 am]

BILLING CODE 7555-01-P